DEPARTMENT OF DEFENSE

Office of the Secretary

[Docket ID: DoD-2008-OS-0108]

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by November 14, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for the Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) (Defense Human Resource Activity), ATTN: Christopher Fagan, 4000 Defense Pentagon, Washington, DC 20301-4000 or call at (703) 696-0848.

Title, Associated Form, and OMB Control Number: Application for Uniformed Services Identification Card—DEERS Enrollment; DD Form 1172, OMB Control Number 0704-0020.

Needs and Uses: This information collection requirement is necessary to obtain the necessary information to authorize members of the Uniformed Services, their spouses and dependents, and other authorized individuals certain benefits and privileges. These privileges include health care, use of commissary, base exchange, and morale, welfare, and recreation facilities. This information collection is needed to obtain the necessary data to determine eligibility, to provide eligible individuals with an identification card for benefits and privileges administered by the Uniformed Services, and maintain a centralized database of eligible individuals.

Affected Public: Individuals or households.

Annual Burden Hours: 95,575.

Number of Respondents: 1,146,898.

Responses per Respondent: 1.

Average Burden per Response: 5 minutes.

Frequency: On occasion.

SUPPLEMENTARY INFORMATION:

Summary of Information Collection

The information collected is used to obtain necessary information to authorize members of the Uniformed Services, their spouses and dependents, and other authorized individuals certain benefits and privileges.

Dated: September 5, 2008.
Patricia L. Toppings,
OSD Federal Register Liaison Officer, Department of Defense.

[FR Doc. E8-21421 Filed 9-12-08; 8:45 am]

BILLING CODE 5001-06-P